DEPARTMENT OF COMMERCE

International Trade Administration

[A-427-818]

Low Enriched Uranium From France; Extension of Time Limit for the Preliminary Results of the Antidumping Duty Administrative Review

AGENCY: Import Administration, International Trade Administration, U.S. Department of Commerce.

EFFECTIVE DATE: October 6, 2005.

FOR FURTHER INFORMATION CONTACT: Mark Hoadley or Myrna Lobo, AD/CVD Operations, Office 6, Import Administration, International Trade Administration, U.S. Department of Commerce, 14th Street and Constitution Avenue, NW., Washington DC 20230; telephone: (202) 482-3148 or (202) 482-2371.

Background

On March 23, 2005, the Department of Commerce (“the Department”) published in the Federal Register the notice of initiation of the administrative review of the antidumping duty order on low enriched uranium from France, covering the period February 1, 2004, through January 31, 2005. See Initiation of Antidumping and Countervailing Duty Administrative Reviews and Requests for Revocation in Part, 70 FR 14643 (March 23, 2005).

Extension of Time Limits for Preliminary Results

Section 751(a)(3)(A) of the Tariff Act of 1930 (“the Act”) requires the Department to issue the preliminary results of an administrative review within 245 days after the last day of the anniversary month of an antidumping duty order for which a review is requested and issue the final results within 120 days after the date on which the preliminary results are published. However, if the Department finds it is not practicable to complete the review within the time period, section 751(a)(3)(A) of the Act allows the Department to extend these deadlines to a maximum of 365 days and 180 days, respectively.

Due to the complex nature of the case and the need to issue supplemental questionnaires, the Department finds that it is not practicable to complete the preliminary results in this administrative review of low enriched uranium from France by October 31, 2005. Therefore, the Department is extending the time limit for completion of the preliminary results until no later than February 28, 2006, in accordance with section 751(a)(3)(A) of the Act. The deadline for the final results of the administrative review continues to be 120 days after the publication of the preliminary results.

We are issuing and publishing this notice in accordance with sections 751(a)(3)(A) and 777(i)(1) of the Act.

Dated: September 29, 2005.
Barbara E. Tillman,
Acting Deputy Assistant Secretary for Import Administration.

[FR Doc. 05-20162 Filed 10-5-05; 8:45 am]

BILLING CODE 3510-DS-P